FEDERAL ELECTION COMMISSION

Sunshine Act Meeting

FEDERAL REGISTER CITATION NOTICE OF PREVIOUS ANNOUNCEMENT: 86 FR 52682.

PREVIOUSLY ANNOUNCED TIME AND DATE OF THE MEETING: Tuesday, September 28, 2021 at 10:00 a.m. and its continuation at the conclusion of the open meeting on September 30, 2021.

CHANGES IN THE MEETING: This meeting also discussed:

Information the premature disclosure of which would be likely to have a considerable adverse effect on the implementation of a proposed Commission action.

* * * * *

CONTACT FOR MORE INFORMATION: Judith Ingram, Press Officer, Telephone: (202) 694-1220.

Vicktoria J. Allen,
Acting Deputy Secretary of the Commission.

[FR Doc. 2021-21502 Filed 9-29-21; 11:15 am]

BILLING CODE 6715-01-P